SMALL BUSINESS ADMINISTRATION

[Disaster Declaration #17868 and #17869; KENTUCKY Disaster Number KY-00099]

Presidential Declaration Amendment of a Major Disaster for Public Assistance Only for the Commonwealth of Kentucky

AGENCY: U.S. Small Business Administration.

ACTION: Amendment 1.

SUMMARY: This is an amendment of the Presidential declaration of a major disaster for Public Assistance Only for the Commonwealth of Kentucky (FEMA-4702-DR), dated 04/10/2023.

Incident: Severe Storms, Straight-line Winds, Tornadoes, Flooding, Landslides, and Mudslides.

Incident Period: 03/03/2023 through 03/04/2023.

DATES: Issued on 05/18/2023.

Physical Loan Application Deadline Date: 06/09/2023.

Economic Injury (EIDL) Loan Application Deadline Date: 01/10/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: The notice of the President's major disaster declaration for Private Non-Profit organizations in the Commonwealth of Kentucky, dated 04/10/2023, is hereby amended to include the following areas as adversely affected by the disaster.

Primary Counties: Boyle, Clinton, Fayette, Henderson, Jessamine, McCreary, Mercer, Pulaski, Russell, Shelby, Wayne.

All other information in the original declaration remains unchanged.

(Catalog of Federal Domestic Assistance Number 59008)

Francisco Sánchez, Jr.,
Associate Administrator, Office of Disaster Recovery & Resilience.

[FR Doc. 2023-11152 Filed 5-24-23; 8:45 am]

BILLING CODE 8026-09-P